ENVIRONMENTAL PROTECTION AGENCY

40 CFR Parts 239 and 257

[FRL-7787-3]

Adequacy of Indiana Solid Waste Landfill Permit Programs Under RCRA Subtitle D

AGENCY: Environmental Protection Agency (EPA).

ACTION: Direct final rule.

SUMMARY: Under Section 4005(c)(1)(C) of the Resource Conservation and Recovery Act (RCRA), EPA can approve state permit programs for solid waste disposal facilities that receive hazardous waste from conditionally exempt small quantity generators (CESQGs). A generator is a CESQG in a calendar month if he generates no more than 100 kilograms of hazardous waste in that month. CESQGs are subject to minimal record keeping and reporting requirements under RCRA, but must satisfy three basic regulatory requirements to remain exempt from the full scope of hazardous waste regulations that apply to other generators: compliance with hazardous waste determination requirements, compliance with storage quantity limits, and compliance with applicable hazardous waste treatment and disposal regulations. Federal regulations specify that CESQG hazardous waste must be disposed of in either: a hazardous waste landfill subject to RCRA Subtitle C; a state licensed or permitted municipal solid waste landfill (MSWLF) subject to the RCRA Subtitle D regulations; or a state licensed or permitted non-municipal, non-hazardous waste disposal unit subject to the RCRA Subtitle D regulations. This document approves Indiana's regulation that requires that CESQG hazardous waste must be disposed of in either a permitted MSWLF subject to the RCRA Subtitle D regulations, or a hazardous waste facility subject to RCRA Subtitle C.

EPA is publishing this rule to approve applicable regulations in Indiana without prior proposal because we believe this action is not controversial, and we do not expect comments that oppose it. Unless we receive written comments that oppose this approval during the comment period, the decision to approve the subject regulations in Indiana will take effect as scheduled. If we receive comments that oppose this action, we will publish a document in the Federal Register withdrawing this rule before it takes effect, and a separate document in the proposed rules section of this Federal Register will serve as a proposal to approve the subject regulations for Indiana.

DATES: This direct final rule is effective on September 14, 2004, unless EPA receives relevant adverse written comment by August 16, 2004. If EPA receives such comment, it will publish a timely withdrawal of this direct final rule in the Federal Register and inform the public that this rule will not take effect.

ADDRESSES: Send written comments to Ms. Susan Mooney, Waste Management Branch (Mail Code: DW-8J), U.S. EPA Region 5, 77 West Jackson Boulevard, Chicago, IL 60604. Comments may also be submitted electronically to: mooney.susan@epa.gov or by facsimile at (312) 353-4788. Comments in electronic format should identify this specific notice. Documents pertaining to this regulatory docket can be viewed and copied during regular business hours at the EPA Region 5 office located at the address noted above.

FOR FURTHER INFORMATION CONTACT: For information on accessing documents or supporting materials related to this rule or for information on specific aspects of this rule, contact Susan Mooney, Waste Management Branch (Mail code: DW-8J), U.S. EPA Region 5, 77 West Jackson Boulevard, Chicago, IL 60604, phone (312) 886-3585, or by e-mail at mooney.susan@epa.gov.

SUPPLEMENTARY INFORMATION:

A. Background

Under 40 CFR 261.5, “Special Requirements for Hazardous Waste Generated by Conditionally Exempt Small Quantity Generators,” which was promulgated on March 24, 1986 (51 FR 10174), CESQG waste could be disposed of only in an EPA or State regulated hazardous, municipal, industrial or miscellaneous waste landfill. At that time, EPA had promulgated rules only for hazardous waste landfills and MSWLFs, not for industrial or miscellaneous waste landfills that accepted CESQG waste. On July 1, 1996, EPA promulgated criteria under its solid waste program at 40 CFR Part 257, subpart B, for industrial waste and other non-municipal, non-hazardous waste landfills that accept CESQG waste (61 FR 34252-34278). In the same notice, EPA also revised its hazardous waste program regulations at 40 CFR 261.5 (f)(3) and 261.5 (g)(3) to allow the disposal of CESQG waste in non-municipal, non-hazardous waste landfills that meet the requirements of 40 CFR Part 257, subpart B, as well as in hazardous waste landfills or MSWLFs that meet appropriate Federal regulations.

RCRA Section 4005 requires states to develop permitting programs or other systems of prior approval and conditions to ensure that solid waste disposal units that receive household hazardous waste or CESQG waste or both comply with the revised Federal criteria under parts 258 and 257, subpart B. To fulfill this need, EPA issued the State Implementation Rule on October 23, 1998, (63 FR 57026) to provide a process for approving state permitting programs for municipal solid waste landfills and for non-municipal solid waste landfills that receive CESQG waste.

On February 6, 2004, the Indiana Department of Environmental Management requested a review in accordance with RCRA Section 4005, of new Indiana regulations to determine whether the regulations are adequate to assure compliance with Federal disposal requirements for CESQG waste. Indiana regulation at 329 IAC 10-3-2 (c) requires CESQG waste to be disposed of in either a municipal solid waste landfill permitted in accordance with 329 IAC 10 requirements or a hazardous waste landfill permitted in accordance with 329 IAC 3.1. This requirement became effective on March 30, 2004.

Indiana's regulation satisfies the EPA requirements for the safe management of CESQG wastes. Therefore, pursuant to 40 CFR Part 239, EPA has determined that Indiana's regulation is adequate for EPA approval because it prohibits the disposal of CESQG wastes in landfills that do not meet relevant Federal requirements.

B. Decision

After reviewing the relevant regulation for the State of Indiana (329 IAC 10-3-2 (c)), and finding that it is equivalent to, or more stringent than, the federal regulations at 40 CFR 261.5(f)(3) and (g)(3), EPA is granting Indiana a final determination of adequacy for its regulation pursuant to RCRA section 4005(c)(1)(C).

C. Statutory and Executive Order Reviews

This rule approves state solid waste requirements pursuant to RCRA Section 4005 and imposes no Federal requirements (see SUPPLEMENTARY INFORMATION, above). Therefore, this rule complies with applicable executive orders and statutory provisions as follows: 1. Executive Order 12866: Regulatory Planning Review—The Office of Management and Budget has exempted this rule from its review under Executive Order (EO) 12866; 2. Paperwork Reduction Act—This rule does not impose an information collection burden under the Paperwork Reduction Act; 3. Regulatory Flexibility Act—After considering the economic impacts of today's rule on small entities under the Regulatory Flexibility Act, I certify that this rule will not have a significant economic impact on a substantial number of small entities; 4. Unfunded Mandates Reform Act—Because this rule approves pre-existing requirements under state law and does not impose any additional enforceable duty beyond that required by state law, this rule does not contain any unfunded mandate, or significantly or uniquely affect small governments, as described in the Unfunded Mandates Act; 5. Executive Order 13132: Federalism—EO 13132 does not apply to this rule because this rule will not have federalism implications (i.e., there are no substantial direct effects on states, on the relationship between the national government and states, or on the distribution of power and responsibilities between federal and state governments); 6. Executive Order 13175: Consultation and Coordination with Indian Tribal Governments—EO 13175 does not apply to this rule because this rule will not have tribal implications (i.e., there are no substantial direct effects on one or more Indian tribes, on the relationship between the federal government and Indian tribes, or on the distribution of power and responsibilities between the federal government and Indian tribes); 7. Executive Order 13045: Protection of Children from Environmental Health & Safety Risks—This rule is not subject to EO 13045 because this rule is not economically significant and is not based on health or safety risks; 8. Executive Order 13211: Actions that Significantly Affect Energy Supply, Distribution, or Use—This rule is not subject to EO 13211 because this rulemaking is not a significant regulatory action as defined in EO 12866; 9. National Technology Transfer Advancement Act—EPA approves state programs so long as the state programs meet the criteria delineated in RCRA. It would be inconsistent with applicable law for EPA, in its review of a state program, to require the use of any particular voluntary consensus standard in place of another standard that meets RCRA requirements. Thus, Section 12(d) of the National Technology Transfer and Advancement Act does not apply to this rule; 10. Congressional Review Act—EPA will submit a report containing this rule and other information required by the Congressional Review Act (5 U.S.C. 801 et seq.) to the U.S. Senate, the U. S. House of Representatives, and the Comptroller General of the United States prior to publication in the Federal Register. This direct final rule is not a “major rule” as defined by 5 U.S.C. 804(2). This direct final rule will be effective September 14, 2004.

List of Subjects in 40 CFR Part 257

Municipal solid waste, hazardous waste, landfills, conditionally exempt small quantity generator (CESQG).

Authority: This document is issued under the authority of Sections 2002 and 4005 of the Solid Waste Disposal Act, 42 U.S.C. 6912 and 6945.

Dated: June 16, 2004.
Bharat Mathur,
Acting Regional Administrator, US EPA, Region 5.

[FR Doc. 04-16204 Filed 7-15-04; 8:45 am]

BILLING CODE 6560-50-P